DEPARTMENT OF TRANSPORTATION

Federal Transit Administration

Notice of Granted Buy America Waiver

AGENCY: Federal Transit Administration (FTA), DOT.

ACTION: Notice of granted Buy America waiver.

SUMMARY: This waiver allows ticket vending machine manufacturers to install the Toyocom Bill Processing Unit and count it as domestic for purposes of Buy America compliance. It is predicated on the non-availability of the item domestically and was granted on December 13, 2002, for the period of two years, or until such time as a domestic source for this Bill Processing Unit becomes available, whichever occurs first. This notice shall insure that the public, particularly potential manufacturers, is aware of this waiver. FTA requests that the public notify it of any relevant changes in the domestic market.

FOR FURTHER INFORMATION CONTACT: Meghan G. Ludtke, FTA Office of Chief Counsel, Room 9316, (202) 366-1936 (telephone) or (202) 366-3809 (fax).

SUPPLEMENTARY INFORMATION: See waiver below.

Dated: January 2, 2003.
Jennifer L. Dorn,
Administrator.

December 13, 2002.

Mr. Fumihiko Hagiwara,

Sales Supervisor, Toyocom U.S.A., Inc., 617 E. Golf Road, Suite 112, Arlington Heights, IL 60005

Dear Mr. Hagiwara: This letter responds to your correspondence of September 17 and October 10, 2002, in which you request a Buy America non-availability waiver for the Toyocom BV-6000 bill processing unit manufactured for use in ticket vending machines. The bill processing unit at issue here is able to accept, validate, and place in mechanical escrow up to 15 banknotes of various denominations. The device also transfers these banknotes from the escrow to a stack within a locked cashbox within the ticket vending machine. On October 4, 1996, the Federal Transit Administration granted Toyocom a waiver for the Model BV-5100 bill processing unit of which the BV-6000 is the successor. For the reasons below, I have determined that a waiver is appropriate here.

FTA's requirements concerning domestic preference for federally funded transit projects are set forth in 49 U.S.C. 5323(j). However, Section 5323(j)(2)(B) states that those requirements shall not apply if the item or items being procured are not produced in the U.S. in sufficient and reasonably available quantities and of a satisfactory quality. The implementing regulation also provides that a waiver may be requested “for a specific item or material that is used in the production of a manufactured product.” 49 CFR 661.7(g). The regulations allow a bidder or supplier to request a waiver only if it is being sought under this section. See 49 C.F.R. 661.7(g) and 49 CFR 661.9(d).

You state that there are no U.S. manufacturers of this component with the same operational and dimensional characteristics. This assertion is supported by a market survey furnished as part of your application and conducted for Toyocom by GFI Genfare, a ticket vending machine manufacturer and potential end user of this component. FTA also posted a request for comments on this matter on our website and received no comments from domestic manufacturers of this product.

Based on the above-referenced information, I have determined that the grounds for a “non-availability” waiver exist. Therefore, pursuant to the provisions of 49 U.S.C. § 5323(j)(2)(B), a waiver is hereby granted for manufacture of the Model BV-6000 bill and BSN385/39 bill handling units for a period of two years, or until such time as a domestic source for this type of unit becomes available, whichever occurs first. In order to insure that the public is aware of this waiver, particularly potential manufacturers, it will be published in the Federal Register. If you have any questions, please contact Joseph Pixley at (202) 366-1936.

Very Truly yours,

Gregory B. McBride,

Deputy Chief Counsel.

[FR Doc. 03-822 Filed 1-14-03; 8:45 am]

BILLING CODE 4910-87-M